DEPARTMENT OF TRANSPORTATION

Federal Aviation Administration

14 CFR Part 39

[Docket No. FAA-2007-0215; Directorate Identifier 2007-NM-216-AD; Amendment 39-15407; AD 2008-05-13]

RIN 2120-AA64

Airworthiness Directives; Bombardier Model CL-600-2B19 (Regional Jet Series 100 & 440) Airplanes

AGENCY: Federal Aviation Administration (FAA), Department of Transportation (DOT).

ACTION: Final rule.

SUMMARY: The FAA is superseding an existing airworthiness directive (AD), which applies to certain Bombardier Model CL-600-2B19 (Regional Jet Series 100 & 440) airplanes. The existing AD currently requires inspecting contactors 1K4XD, 2K4XD, and K4XA to determine the type of terminal base plate, and applying sealant on the terminal base plates if necessary. This AD requires an inspection to determine if certain alternating current (AC) service and utility bus contactors have a terminal base plate made from non-G9 melamine material, and corrective actions if necessary; or re-identification of the mounting tray of the contactors; as applicable. This AD also limits the applicability of the existing AD. This AD results from incidents of short circuit failures of certain AC contactors located in the avionics bay. We are issuing this AD to prevent short circuit failures of certain AC contactors, which could result in arcing and consequent smoke or fire.

DATES: This AD becomes effective April 8, 2008.

The Director of the Federal Register approved the incorporation by reference of a certain publication listed in the AD as of April 8, 2008.

On August 9, 2006 (71 FR 45364, August 9, 2006), the Director of the Federal Register approved the incorporation by reference of Bombardier Service Bulletin 601R-24-122, Revision A, dated July 13, 2006.

ADDRESSES: For service information identified in this AD, contact Bombardier, Inc., Canadair, Aerospace Group, P.O. Box 6087, Station Centre-ville, Montreal, Quebec H3C 3G9, Canada.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Wing Chan, Aerospace Engineer, Systems and Flight Test Branch, ANE-172, FAA, New York Aircraft Certification Office, 1600 Stewart Avenue, Suite 410, Westbury, New York 11590; telephone (516) 228-7311; fax (516) 794-5531.

SUPPLEMENTARY INFORMATION:

Discussion

The FAA issued a notice of proposed rulemaking (NPRM) to amend 14 CFR part 39 to include an AD that supersedes AD 2006-17-14, amendment 39-14735 (71 FR 49337, August 23, 2006). The existing AD applies to certain Bombardier Model CL-600-2B19 (Regional Jet Series 100 & 440) airplanes. That NPRM was published in the Federal Register on November 21, 2007 (72 FR 65474). That NPRM proposed to require inspecting contactors 1K4XD, 2K4XD, and K4XA to determine the type of terminal base plate, and applying sealant on the terminal base plates, if necessary. That NPRM also proposed to require an inspection to determine if certain alternating current (AC) service and utility bus contactors have a terminal base plate made from non-G9 melamine material, and corrective actions if necessary; or re-identification of the mounting tray of the contactors; as applicable.

Comments

We gave the public the opportunity to participate in developing this AD. We considered the comment received from one commenter.

Request To Give Credit for Actions Already Done

The commenter, Larry Nelson, requests that the phrase “unless already accomplished” be added to paragraph (h) of the NPRM after the compliance time. The commenter notes that Canadian airworthiness directive CF-2006-17R1, dated May 30, 2007 (referred to in the NPRM as related information), states, “Within 12 months from the effective date of this directive, unless already accomplished.”

We do not agree. A similar phrase is already in paragraph (e) of this AD. Paragraph (e) states, “You are responsible for having the actions required by this AD performed within the compliance times specified, unless the actions have already been done.” We have not changed the AD in this regard.

Request To Allow Earlier Revisions of Service Bulletin

The commenter, Larry Nelson, requests that Bombardier Service Bulletin 601R-24-123, dated November 13, 2006; or Revision A, dated December 7, 2006; be considered acceptable for compliance with the actions specified in paragraph (h) of the NPRM. The commenter states that the technical content in Bombardier Service Bulletin 601R-24-123, Revision B, dated February 16, 2007 (referred to in the NPRM as the appropriate source of service information for doing the proposed actions) did not change.

We do not agree. Bombardier Service Bulletin 601R-24-123, Revision B, includes additional actions (i.e., a general visual inspection, re-identification, and applicable corrective actions, as identified as Part C in the service bulletin) beyond those in earlier revisions of the service bulletin. Also, Canadian airworthiness directive CF-2006-17R1, which this AD parallels, refers to Revision B or later revisions of the service bulletin as the appropriate source of service information for doing the required actions. However, this AD does not refer to “or later revisions” of the service bulletin. Affected operators may request approval to use a later revision of the referenced service bulletin as an alternative method of compliance, under the provisions of paragraph (j) of the AD. We have not changed the AD in this regard.

Conclusion

We have carefully reviewed the available data, including the comment that has been received, and determined that air safety and the public interest require adopting the AD as proposed.

Costs of Compliance

The following table provides the estimated costs for U.S. operators to comply with this AD.

Estimated Costs
Action | Work hours | Average labor rate per hour | Cost per airplane | Number of U.S.-registered airplanes | Fleet cost
Inspection (required by AD 2006-17-14) | 3 | $80 | $240 | 739 | $177,360.
New actions (depending on the airplane configuration) | 1 or 2 | 80 | $80 or $160 | 739 | Between $59,120 and $118,240.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14735 (71 FR 49337, August 23, 2006) and adding the following new airworthiness directive (AD):

2008-05-13 Bombardier, Inc. (Formerly Canadair): Amendment 39-15407. Docket No. FAA-2007-0215; Directorate Identifier 2007-NM-216-AD.

Effective Date

(a) This AD becomes effective April 8, 2008.

Affected ADs

(b) This AD supersedes AD 2006-17-14.

Applicability

(c) This AD applies to Bombardier Model CL-600-2B19 (Regional Jet Series 100 and 440) airplanes, certificated in any category; serial numbers 7003 through 7990 inclusive, and 8000 through 8070 inclusive.

Unsafe Condition

(d) This AD results from incidents of short circuit failures of certain alternating current (AC) contactors located in the avionics bay. We are issuing this AD to prevent short circuit failures of certain AC contactors, which could result in arcing and consequent smoke or fire.

Compliance

(e) You are responsible for having the actions required by this AD performed within the compliance times specified, unless the actions have already been done.

REQUIREMENTS OF AD 2006-17-14

Inspection and Corrective Action

(f) Within 800 flight hours or four months after September 7, 2006 (the effective date of AD 2006-17-14), whichever occurs first: Do a general visual inspection of AC bus contactors 1K4XD and 2K4XD, part number (P/N) D-18ZZA, and the bus contactor K4XA, P/N D-7GRZ, to determine which contactors have an Ultem 2200 terminal base plate (i.e., the plate is made from a black molded thermal plastic material), and apply RTV sealant to the terminal base plate, as applicable, by doing all the actions specified in the Accomplishment Instructions of Bombardier Service Bulletin 601R-24-122, Revision A, dated July 13, 2006. Do all applicable applications of sealant before further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Previous Actions Accomplished According to Other Service Information

(g) Actions accomplished before September 7, 2006, in accordance with Bombardier Drawing Number K601R50180, dated June 2, 2006; or Bombardier Service Bulletin 601R-24-122, dated June 27, 2006; are considered acceptable for compliance with the actions specified in paragraph (f) of this AD.

NEW REQUIREMENTS OF THIS AD

Inspection and Corrective Action

(h) Within 12 months after the effective date of this AD, do a general visual inspection, re-identification, and corrective actions, as applicable, by doing all the applicable actions specified in the Accomplishment Instructions of Bombardier Service Bulletin 601R-24-123, Revision B, dated February 16, 2007. Do the applicable corrective action before further flight. Accomplishment of these actions constitutes terminating action for the requirements of this AD.

Parts Installation

(i) As of the effective date of this AD, no person may install any AC contactor 1K4XD, 2K4XD, or K4XA, having a non-G9 melamine terminal base plate, on any airplane.

Alternative Methods of Compliance (AMOCs)

(j)(1) The Manager, New York Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(k) Canadian airworthiness directive CF-2006-17R1, dated May 30, 2007, also addresses the subject of this AD.

Material Incorporated by Reference

(l) You must use Bombardier Service Bulletin 601R-24-122, Revision A, dated July 13, 2006; and Bombardier Service Bulletin 601R-24-123, Revision B, dated February 16, 2007, to do the actions required by this AD, unless the AD specifies otherwise.

(1) The Director of the Federal Register approved the incorporation by reference of Bombardier Service Bulletin 601R-24-123, Revision B, dated February 16, 2007, in accordance with 5 U.S.C. 552(a) and 1 CFR part 51.

(2) On August 9, 2006 (71 FR 45364, August 9, 2006), the Director of the Federal Register approved the incorporation by reference of Bombardier Service Bulletin 601R-24-122, Revision A, dated July 13, 2006.

(3) Contact Bombardier, Inc., Canadair, Aerospace Group, P.O. Box 6087, Station Centre-ville, Montreal, Quebec H3C 3G9, Canada, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on February 25, 2008.
Ali Bahrami,
Manager, Transport Airplane Directorate, Aircraft Certification Service.

[FR Doc. E8-3982 Filed 3-3-08; 8:45 am]

BILLING CODE 4910-13-P